DEPARTMENT OF THE INTERIOR

Bureau of Reclamation

New Melones Lake Area Resource Management Plan, Tuolumne and Calaveras Counties, CA

AGENCY: Bureau of Reclamation, Interior.

ACTION: Notice of availability of the Final Resource Management Plan/Environmental Impact Statement (RMP/EIS).

SUMMARY: Pursuant to the National Environmental Policy Act of 1969 (as amended), the Bureau of Reclamation (Reclamation) has made available for public review a Final RMP/EIS for the New Melones Lake Area. The Final RMP/EIS describes and presents the environmental effects of four alternatives, including no action, for future use of the project area for recreation and resource protection and management.

A Notice of Availability of the joint Draft RMP/EIS was published in the Federal Register on November 2, 2009 (74 FR 56656). The written comment period on the Draft RMP/EIS ended on January 4, 2010. The Final RMP/EIS contains responses to all comments received and reflects comments and any additional information received during the review period.

DATES: Reclamation will not make a decision on the proposed action until at least 30 days after release of the Final RMP/EIS. After the 30-day waiting period, Reclamation will complete a Record of Decision (ROD). The ROD will state the action that will be implemented and will discuss all factors leading to the decision.

ADDRESSES: Send requests for a compact disc or a bound copy of the Final RMP/EIS to Melissa Vignau, Natural Resources Specialist, Bureau of Reclamation, 7794 Folsom Dam Road, Folsom, CA 95630, or telephone: 916-989-7182. Copies of the Final RMP/EIS will be available for review at: http://www.usbr.gov/mp/nepa/nepa_projdetails.cfm?Project_ID=2536.

See SUPPLEMENTARY INFORMATION Section for locations where copies of the Final RMP/EIS are available for public review.

FOR FURTHER INFORMATION CONTACT: Melissa Vignau, Natural Resources Specialist, Bureau of Reclamation, at 916-989-7182 or Dan Holsapple, Acting New Melones Resource Manager, Bureau of Reclamation, at 209-536-9094.

SUPPLEMENTARY INFORMATION: This planning activity encompasses approximately 30,000 acres of publicly accessible water and land owned and managed by Reclamation. The RMP, which will replace the New Melones Lake Area Master Plan of 1976, will be the primary management document for Reclamation's New Melones Lake Area, providing a defined purpose, vision, long-term goals, and management guidelines. It will be used by Reclamation as a framework for guiding decision-making related to future development potential, on-going management, public health and safety, and public use of the New Melones Lake Area.

The RMP attempts to enhance and expand the recreation opportunities while also providing more active protection and management of natural and cultural resources. The RMP is intended to be implemented over an extended period as determined by both user demand and need. To do so, the RMP provides goals and guidelines relating to natural, cultural and visual resources, water quality, circulation, visitor services, interpretation and operations.

The EIS is a program-level analysis of the potential environmental impacts associated with adoption of the RMP. The RMP is intended to be predominantly self-mitigating through implementation of RMP policies and management strategies, and the EIS will also include measures intended to reduce the adverse effects of the RMP.

Copies of the Final EIS are available for public review at the following locations:

• Bureau of Reclamation, Central California Area Office, New Melones Lake Office, 6850 Studhorse Flat Road, Sonora, California 95370.

• City of Angels Camp, City Hall, S. Main Street, Angels Camp, CA 95222.

• Calaveras Planning Department, Calaveras County Government Center, 891 Mountain Ranch Road, San Andreas, CA 95249.

• San Andreas Central Library, 1299 Gold Hunter Road, San Andreas, CA 95249.

• Tuolumne County Administrator's Office, Administration Building, 2 South Green St., 4th Floor, Sonora, CA 95370.

• Sonora Main Branch Library, 480 Greenley Rd, Sonora, CA 95370.

Before including your name, address, phone number, e-mail address, or other personal identifying information in any correspondence, you should be aware that your entire correspondence including your personal identifying information, may be made publicly available at any time. While you can ask us in your correspondence to withhold your personal identifying information from public review, we cannot guarantee that we will be able to do so.

Dated: December 21, 2009.
Pablo R. Arroyave,
Deputy Regional Director, Mid-Pacific Region.

[FR Doc. 2010-2699 Filed 2-5-10; 8:45 am]

BILLING CODE 4310-MN-P